FEDERAL COMMUNICATIONS COMMISSION

Notice of Public Information Collection(s) Being Reviewed by the Federal Communications Commission for Extension Under Delegated Authority

May 10, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility and clarity of the information collected; and (d) ways to minimize the burden of the collection of information on the respondents, including the use of automated collection techniques or other forms of information technology.

DATES: Written Paperwork Reduction (PRA) comments should be submitted on or before July 23, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control Number: 3060-0228.

Title: Section 80.59, Compulsory Ship Inspections.

Form No.: N/A.

Type of Review: Extension of a currently approved collection.

Respondents: Business or other for-profit, non-profit institutions, and State, local or tribal government.

Number of Respondents: 200.

Estimated Time per Response: 2 hours.

Frequency of Response: Recordkeeping requirement.

Total Annual Burden: 400 hours.

Total Annual Cost: N/A.

Privacy Act Impact Assessment: N/A.

Needs and Uses: The requirement contained in this rule section is necessary to implement the provisions of section 362(b) of the Communications Act of 1934, as amended, which permits the Commission to waive the required annual inspection of certain oceangoing ships for up to 30 days beyond the expiration date of a vessel's radio safety certificate, upon a finding that the public interest would be served. The information is used by the Engineer in Charge of FCC Field Offices to determine the eligibility of a vessel for a waiver of the required annual radio station inspection.

OMB Control Number: 3060-0265.

Title: Section 80.868, Card of Instructions.

Form No.: N/A.

Type of Review: Extension of a currently approved collection.

Respondents: Business or other for-profit, non-profit institutions, and State, local, or tribal government.

Number of Respondents: 3,000.

Estimated Time per Response: .1 hour.

Frequency of Response: Recordkeeping requirement.

Total Annual Burden: 300 hours.

Total Annual Cost: N/A.

Privacy Act Impact Assessment: N/A.

Needs and Uses: The recordkeeping requirement contained in this rule section is necessary to insure that radiotelephone distress procedures are readily available to the radio operator on board certain vessels (300-1600 gross tons) required by the Communications Act of 1934, as amended, or the International Convention for Safety of Life at Sea to be equipped with a radiotelephone station. The information is used by a vessel radio operator during an emergency situation, and is designed to assist the radio operator to utilize proper distress procedures during a time when he or she may be subject to considerable stress or confusion.

OMB Control Number: 3060-0657.

Title: Section 21.956, Filing of Long-Form Applications or Statements of Intention.

Form No.: N/A.

Type of Review: Extension of a currently approved collection.

Respondents: Business or other for-profit.

Number of Respondents: 2.

Estimated Time per Response: 4 hours (1 hour respondent, 1 hour attorney, 2 hours consulting engineer).

Frequency of Response: On occasion reporting requirement.

Total Annual Burden: 2 hours.

Total Annual Cost: $1,000.

Privacy Act Impact Assessment: N/A.

Needs and Uses: Where the Basic Trading Area (BTA) is so heavily encumbered that the winning bidder is unable to file a long-form application for a station within the BTA while protecting incumbents from harmful interference, the winning bidder must file a statement of intention of use of the BTA in accordance with section 21.956. This statement of intention must identify all incumbents and describe in detail its plan for obtaining the authorized/proposed MDS stations within the BTA. This statement must also include the exhibits detailed in 21.956(b). The long-form application (FCC 304) has separate OMB approval under control number 3060-0654. The data is used by FCC staff to determine whether to grant a BTA authorization.

OMB Control Number: 3060-0660.

Title: Section 21.937, Negotiated Interference Protection.

Form No.: N/A.

Type of Review: Extension of a currently approved collection.

Respondents: Business or other for-profit.

Number of Respondents: 75.

Estimated Time per Response: 30 hours (6 hours respondent, 8 hours contract attorney, 16 hours consulting engineer).

Frequency of Response: On occasion reporting requirement.

Total Annual Burden: 450 hours.

Total Annual Cost: $300,000.

Privacy Act Impact Assessment: N/A.

Needs and Uses: Under section 21.937, the level of acceptable electromagnetic interference that occurs at or within the boundaries of an adjacent Basic Trading Area (BTA), partitioned service area or an incumbent MDS station's protected service area, can be negotiated and established with the written consent of the affected licensee. Thus, section 21.937 permits negotiated interference agreements among these parties. These written agreements must be submitted to the Commission within thirty days of ratification. (These agreements are often included with the submission of the FCC 304 attached as Exhibits.) These agreements allow the parties to establish acceptable levels of interference based on the design of their stations and service needs. These agreements are the most effective means of regulating interference and they provide flexibility in designing MDS systems.

OMB Control Number: 3060-0662.

Title: Section 21.930, Five Year Build-Out Requirements.

Form No.: N/A.

Type of Review: Extension of a currently approved collection.

Respondents: Business or other for-profit.

Number of Respondents: 450.

Estimated Time per Response: 4 hours (1 hour respondent, 3 hours consulting engineer).

Frequency of Response: On occasion reporting requirement.

Total Annual Burden: 450 hours.

Total Annual Cost: $202,500.

Privacy Act Impact Assessment: N/A.

Needs and Uses: A BTA authorization holder has a five-year build-out period, beginning on the date of the grant of the BTA authorization and terminating on the 5th year anniversary of the grant of the authorization, within which it may develop and expand MDS station operations within its service area. Section 21.930(c) requires the BTA holder to file with the Commission a demonstration that the holder has met construction requirements. This demonstration must be filed sixty days prior to the end of the five year build-out period. On June 14, 2001, the Commission's Mass Media Bureau (now the Media Bureau) adopted a Memorandum Opinion and Order in MM Docket No. 01-109 which extended the five year build out requirement set forth in section 21.930 by two years. The certification of completion of construction (FCC 304-A) required by section 21.930(a)(3) has separate OMB approval under control number 3060-0664.) The data is used by FCC staff to determine if the BTA holder has met its construction requirements and to ensure that service is promptly delivered to the public. The Commission will issue a declaration that the holder has met the construction requirements.

OMB Control Number: 3060-0984.

Title: Sections 90.35(b)(2), Industrial/Business Pool and 90.175(b)(1), Frequency Coordination Requirements.

Form No.: N/A.

Type of Review: Extension of a currently approved collection.

Respondents: Business or other for-profit, and State, local, or tribal government.

Number of Respondents: 3,800.

Estimated Time per Response: 1 hour.

Frequency of Response: One time reporting requirement, and third party disclosure requirement.

Total Annual Burden: 3,800 hours.

Total Annual Cost: N/A.

Privacy Act Impact Assessment: N/A.

Needs and Uses: The rules require applicants proposing to operate a land mobile radio station that have service contours that overlap and existing land mobile station to obtain written concurrence of the frequency coordinator associated with the industry for which the existing station license was issued, or the written concurrence of the licensee of the existing station.

Federal Communications Commission.
Marlene H. Dortch,
Secretary.

[FR Doc. 04-11659 Filed 5-21-04; 8:45 am]

BILLING CODE 6712-01-P